DEPARTMENT OF ENERGY

Federal Energy Regulatory Commission

[Docket No. PR08-9-000]

Jefferson Island Storage & Hub, L.L.C.; Notice of Petition for Rate Approval

December 18, 2007.

Take notice that on December 5, 2007, Jefferson Island Storage & Hub, L.L.C. (Jefferson Island) filed a petition for rate approval pursuant to section 284.123(b)(2) of the Commission's regulations. Jefferson Island requests that the Commission approve market-based rates, including negotiated fuel, for its Interruptible Wheeling Service. The proposed Interruptible Wheeling Service will replace Jefferson Island's Interruptible Transportation Service. Jefferson Island also requests waiver of the triennial rate review filing required by the Commission's June 20, 2005 Letter Order in Docket Nos. PR05-9-000 and PR05-9-001.

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time December 28, 2007.

Kimberly D. Bose,
Secretary.

[FR Doc. E8-496 Filed 1-14-08; 8:45 am]

BILLING CODE 6717-01-P